NATIONAL SCIENCE FOUNDATION

Faster Administration of Science and Technology Education and Research (FASTER) Community of Practice (CoP)

AGENCY: The Networking and Information Technology Research and Development (NITRD) National Coordination Office (NCO), National Science Foundation.

ACTION: Notice of meetings.

SUMMARY: The goal of the FASTER CoP is to enhance collaboration and accelerate agencies' adoption of advanced IT capabilities developed by Government-sponsored IT research. FASTER, seeks to accelerate deployment of promising research technologies; share protocol information, standards, and best practices; and coordinate and disseminate technology assessment and testbed results. The agendas, minutes, and other meeting materials and information can be found on the FASTER website at: https://www.nitrd.gov/nitrdgroups/index.php?title=FASTER.

DATES: The FASTER CoP meetings will be held over the course of the year (February 2018—December 2018) at the NITRD National Coordination Office, 490 L'Enfant Plaza SW, Suite 8001, Washington, DC 20024. Please note that public seating for these meetings is limited and is available on a first-come, first-served basis. WebEx and/or Teleconference participation is available for each meeting. Please reference the FASTER CoP website for meeting dates, times, and location changes. Further information about the NITRD may be found at: https://www.nitrd.gov.

FOR FURTHER INFORMATION CONTACT: Mr. Alex Thai at thai@nitrd.gov or (202) 459-9674.

PUBLIC COMMENTS: The government seeks individual input; attendees/participants may provide individual advice only. Members of the public are welcome to submit their comments to magic-comments@nitrd.gov. Please note that under the provisions of the Federal Advisory Committee Act (FACA), all public comments and/or presentations will be treated as public documents and may be made available to the public via the MAGIC Team website.

Submitted by the National Science Foundation in support of the Networking and Information Technology Research and Development (NITRD) National Coordination Office (NCO) on February 6, 2018.

Suzanne H. Plimpton,
Reports Clearance Officer, National Science Foundation.

[FR Doc. 2018-02927 Filed 2-12-18; 8:45 am]

BILLING CODE 7555-01-P